DEPARTMENT OF THE INTERIOR

Bureau of Indian Affairs

25 CFR Part 226

[BIA-2013-0003; 134/A0A511010/AAK1001000]

RIN 1076-AF17

Leasing of Osage Reservation Lands for Oil and Gas Mining

AGENCY: Bureau of Indian Affairs, Interior.

ACTION: Proposed rule; Reopening of comment period.

SUMMARY: In August, the Bureau of Indian Affairs (BIA) published a proposed rule in the Federal Register to revise regulations addressing oil and gas mining on reservation land of the Osage Nation. The public comment period for that rule closed on October 28, 2013. This notice reopens the comment period until November 18, 2013.

DATES: Comments on the proposed rule published August 28, 2013 (78 FR 53083) must be received by November 18, 2013.

ADDRESSES: You may submit comments by any of the following methods:

—Federal rulemaking portal: The rule is listed under the agency name “Bureau of Indian Affairs” and has been assigned Docket ID “BIA-2013-0003” at http://www.regulations.gov.

—Email: osageregneg@bia.gov. Include the number 1076-AF17 in the subject line of the message.

—Mail or hand-delivery: Mr. Eddie Streater, Designated Federal Officer, Bureau of Indian Affairs, P.O. Box 8002, Muscogee, OK 74402. Include the number 1076-AF17 on the outer envelope.

We cannot ensure that comments received after the close of the comment period (see DATES) will be included in the docket for this rulemaking and considered. Comments sent to an address other than those listed above will not be included in the docket for this rulemaking.

Comments on the information collections contained in this proposed regulation are separate from those on the substance of the rule. Send comments on the information collection burden to OMB by facsimile to (202) 395-5806 or email to the OMB Desk Officer for the Department of the Interior at OIRA_submission@omb.eop.gov. Please send a copy of your comments to the person listed in the FOR FURTHER INFORMATION CONTACT section of this notice.

FOR FURTHER INFORMATION CONTACT: Mr. Eddie Streater, Designated Federal Officer, Bureau of Indian Affairs, P.O. Box 8002, Muscogee, OK 74402; telephone: (918) 781-4608; fax: (918) 718-4604; or email: osageregneg@bia.gov. Additional information can be found at: http://www.bia.gov/osageregneg.

SUPPLEMENTARY INFORMATION: On August 28, 2013, BIA published a proposed rule revising 25 CFR 226 (78 FR 53083). The proposed rule is the result of a negotiated rulemaking and would update the leasing procedures and rental, production, and royalties requirements for oil and gas on Osage Mineral lands. The comment period for the proposed rule closed October 28, 2013. With this notice, BIA is reopening the comment period and establishing a new comment deadline of November 18, 2013.

BIA will also consider any comments that it received between the close of the original comment period on October 28, 2013, and the reopening of the comment period. If you submitted comments during this period, there is no need to resubmit them.

Dated: October 25, 2013.
Kevin K. Washburn,
Assistant Secretary—Indian Affairs.

[FR Doc. 2013-25848 Filed 10-31-13; 8:45 am]

BILLING CODE 4310-02-P